DEPARTMENT OF THE INTERIOR

Bureau of Land Management

[LLNVL0000-L51100000-GN0000-LVEMF1905850 19X MO #4500144424]

Notice of Intent to Prepare an Environmental Impact Statement for the Robinson Mine Plan of Operations Amendment and Proposed Resource Management Plan Amendment, White Pine County, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Ely District (EYDO), Nevada, intends to prepare an Environmental Impact Statement (EIS) for the Robinson Mine Plan of Operations Amendment and proposed Amendment of the BLM Ely District Resource Management Plan (RMP). By this Notice, BLM is announcing the beginning of the scoping process to solicit public comments and identify issues.

DATES: This Notice initiates the public scoping process for the EIS. Comments on issues may be submitted in writing until June 29, 2020. To maximize the opportunity for public input on this project while prioritizing the health and safety of BLM employees and the interested public, BLM will host online virtual public scoping meetings to provide information and gather input on the project. The date(s) and information on how to login and participate in these virtual scoping meetings will be announced at least 15 days in advance through local media and on the BLM website at https://go.usa.gov/xvYad. In order to be considered in the scope of analysis for the Draft EIS, all comments must be received prior to the close of the 30-day scoping period or 15 days after the last public scoping meeting, whichever is later. We will provide additional opportunities for public participation upon publication of the Draft EIS.

ADDRESSES: You may submit comments related to the Robinson Mine Plan of Operations Amendment and Proposed Ely District RMP Amendment by any of the following methods:

• Website: https://go.usa.gov/xvYad.

• Email: blm_nv_edyo_robinson_eis@blm.gov.

• Mail: BLM Bristlecone Field Office, ATTN: Robinson EIS Project, 702 North Industrial Way, Ely, Nevada 89301.

Documents pertinent to this proposal may be examined at the BFO.

FOR FURTHER INFORMATION CONTACT: Tiera Arbogast, telephone 775-289-1872, or email tarbogast@blm.gov. Contact Ms. Arbogast to have your name added to the mailing list. Persons who use a telecommunications device for the deaf (TDD) may call the Federal Relay Service (FRS) at 1-800-877-8339 to contact Ms. Arbogast during normal business hours. The FRS is available 24 hours a day, 7 days a week, to leave a message or question with the above individual. You will receive a reply during normal business hours. Normal business hours are 7:30 a.m. to 4:30 p.m., Monday through Friday, except for Federal holidays.

SUPPLEMENTARY INFORMATION: This document provides notice that the BLM EYDO, Ely, NV, intends to prepare an EIS for the Robinson Mine Plan of Operations Amendment, as well as a Proposed Ely District RMP Amendment. It also initiates the public scoping process, and seeks public input on preliminary issues regarding the proposed project and RMP amendment. The Robinson Mine is an 8,887.6-acre copper mining operation adjacent to Ruth, Nevada and seven miles west of Ely, Nevada via U.S. Route 50. Project area boundaries are within Township 16 North (T16N), Range 61 East (R61E), Sections 1, 2, 11 through 14, 23-26, 35, and 36; T16N, R62E, Sections 2 through 24, and 28 through 31; T16N, R63E, Sections 7, 8, and 17 through 20; and Township 17 North, Range 62 East, Sections 20, 21, 28, 29, and 32 through 35, Mount Diablo Baseline and Meridian. The BLM has received a proposal from KGHM—Robinson Nevada Mining Company to amend the Robinson Project Plan of Operations to extend the mine life to 2028 through authorization of the following actions: resume mining in the Liberty Pit, construct the new King Waste Rock Dump south of the Liberty and Ruth Pits, and expand storage capacity at the Giroux Wash Tailings Storage Facility. The EIS will analyze an alternative to resume waste rock placement on the North Tripp Waste Rock Dump, requiring North Tripp Waste Rock Dump expansion. The proposed activities would result in a total increase of approximately 1,227 acres of surface disturbance within the Project Area Boundary for a new end of mine life total surface disturbance of 10,115 acres. The proposed increase would comprise 246 acres of new disturbance on private land controlled by KGHM Robinson and 981 acres of new disturbance located on public lands administered by the BLM.

This EIS will also analyze a proposed amendment to the Ely District RMP for approximately 10,865 acres of BLM lands within the Plan of Operations boundary to be managed as Visual Resource Management (VRM) Class IV instead of the current VRM Class II and VRM Class III. This would provide for visual resource management that is consistent with current and future proposed mining operations.

The Robinson Mine currently operates four open pits including the Aultman Pit, Liberty Pit, Tripp/Veteran Pit and Ruth West and Ruth East Pits. The approximate total surface disturbance of the open pits is 2,061 acres. Ruth Pit is the only authorized pit that occurs on BLM-administered lands, with a total authorized surface disturbance of 36.6 acres on public land. Twelve Waste Rock Dumps and two ore stockpiles are authorized at Robinson Mine, with a total combined surface disturbance of approximately 3,055 acres, 721 acres on public lands. Tailings produced during milling operations are placed in the authorized Giroux Wash Tailings Storage Facility, approximately 1973 acres, 70.5 acres of which occur on public lands. Other facilities that support Robinson Mine operations include mill and flotation circuits, gold heap leach and process facilities, evaporations cells and ponds, pumps and pipelines, power substations and distribution lines, a landfill, and a number of other buildings and facilities, yards, and equipment. Robinson Mine has an ongoing exploration drilling program to provide information for the geologic model, better define the ore body, and provide metallurgical samples.

The purpose of the public scoping process is to determine relevant issues that will guide the planning process, including the range of alternatives and analysis included in the EIS.

You may submit comments in writing to the BLM as shown in the ADDRESSES section above. To be most helpful, your comments should be submitted by the close of the 30-day scoping period.

The BLM will use its fulfillment of the NEPA public participation requirements to assist the agency in satisfying the public involvement requirements under Section 106 of the National Historic Preservation Act (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The public is encouraged to help identify any issues, including impact concerns or the range of alternatives that should be analyzed, so that they that may be addressed in the EIS. The BLM will work collaboratively with all interested parties to identify the issues.

Before including your address, phone number, email address, or other personal identifying information in your comment, you should be aware that your entire comment, including your personal identifying information, may be made publicly available at any time. While you can ask us in your comment to withhold your personal identifying information from public review, we cannot guarantee that we will be able to do so.

(Authority: 40 CFR 1501.7 and 43 CFR 1610.2)

Jared Bybee,
Associate District Manager, Ely District Office.

[FR Doc. 2020-11374 Filed 5-27-20; 8:45 am]

BILLING CODE 4310-HC-P